DEPARTMENT OF ENERGY

Federal Energy Regulatory Commission

[Docket No. RP05-422-000]

El Paso Natural Gas Company; Notice of Technical Conference

August 11, 2005.

On June 30, 2005, El Paso Natural Gas Company (El Paso) filed revised tariff sheets pursuant to section 4 of the Natural Gas Act and part 154 of the Commission's regulations. In its filing, El Paso proposes a number of new services, a rate increase for existing services, and changes in certain terms and conditions of service. On July 29, 2005, the Commission issued an order ¹ accepting and suspending the tariff sheets, subject to refund and conditions, establishing hearing procedures, and establishing a technical conference. In that order, the Commission directed the Staff to convene a technical conference to address certain issues raised by the filing.

¹ 112 FERC ¶ 61,150 (2005).

Take notice that a technical conference to discuss issues raised by El Paso's filing will be held on Tuesday, September 20, 2005 at 10 a.m. (e.s.t.), in a room to be designated at the offices of the Federal Energy Regulatory Commission, 888 First Street, NE., Washington, DC 20426. The conference will continue through Wednesday, September 21, 2005. An agenda for the conference will be issued in a subsequent notice.

FERC conferences are accessible under section 508 of the Rehabilitation Act of 1973. For accessibility accommodations please send an e-mail to accessibility@ferc.gov or call toll free 1-866-208-3372 (voice) or 202-208-1659 (TTY), or send a FAX to 202-208-2106 with the required accommodations.

All parties and staff are permitted to attend.

Linda Mitry,
Deputy Secretary.

[FR Doc. E5-4479 Filed 8-16-05; 8:45 am]

BILLING CODE 6717-01-P